DEPARTMENT OF DEFENSE

Department of the Navy

Notice of Proposed Information Collection; Commander, Navy Recruiting Command

AGENCY: Department of the Navy, DOD.

ACTION: Notice.

SUMMARY: The Commander, Navy Recruiting Command announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 10, 2000.

ADDRESSES: Send written comments and recommendations on the proposed information collection to Navy Recruiting Command (Code 80), 5722 Integrity Drive, Millington, TN 38054-5057,

FOR FURTHER INFORMATION CONTACT: To request additional information or to obtain a copy of the proposal and associated collection instruments, contact Commander Howington at 901-874-9388.

SUPPLEMENTARY INFORMATION: Form Title and OMB Number: Navy Advertising Effectiveness Study; OMB Control Number 0703-0032.

Needs and Uses: The Navy Advertising Effectiveness Study measures advertising effectiveness and provides data for strategies to be used in advertising. This information is used to determine management decisions on objectives and strategies of advertising, media selection, and the evaluation of the advertising and recruiting process.

Affected Public: Individuals or households.

Annual Burden Hours: 500.

Number of Respondents: 1,000.

Responses per Respondent: 1.

Average Burden per Response: 30 minutes.

Frequency: Semi-annually.

Authority: 44 U.S.C. 3506(c)(2)(A)

Dated: May 2, 2000.
J. L. Roth,
Lieutenant Commander, Judge Advocate General's Corps, U.S. Navy, Federal Register Liaison Officer.

[FR Doc. 00-11844 Filed 5-10-00; 8:45 am]

BILLING CODE 3810-FF-P